DEPARTMENT OF COMMERCE

National Oceanic and Atmospheric Administration

RIN 0648-XC632

Marine Mammals; File No. 14809

AGENCY: National Marine Fisheries Service (NMFS), National Oceanic and Atmospheric Administration (NOAA), Commerce.

ACTION: Notice; receipt of application for permit amendment.

SUMMARY: Notice is hereby given that Douglas Nowacek, Ph.D., Duke University—Marine Laboratory, 135 Duke Marine Lab Rd., Beaufort, NC 28516, has applied for an amendment to Scientific Research Permit No. 14809-01.

DATES: Written, telefaxed, or email comments must be received on or before July 29, 2015.

ADDRESSES: The application and related documents are available for review by selecting “Records Open for Public Comment” from the “Features” box on the Applications and Permits for Protected Species home page, https://apps.nmfs.noaa.gov, and then selecting File No. 14809 Modification #5 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman or Courtney Smith, (301) 427-8401.

SUPPLEMENTARY INFORMATION: The subject amendment to Permit No. 14809-01 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR 222-226).

Permit No. 14809, issued on March 24, 2014 (79 FR 18526), authorizes the permit holder to conduct comparative research on 34 species/stocks of cetaceans in the North Atlantic, North Pacific and Southern Oceans. Authorized activities include suction cup tagging, acoustic playbacks, passive acoustics, biopsy sampling, photo-identification, behavioral observations, and incidental harassment during vessel surveys. The research objectives are to: (1) Document baseline foraging and social behavior of cetacean species under different ecological conditions; (2) place these behaviors in a population-level context; and (3) determine how these species respond to various natural sound sources. The permit is valid through March 31, 2019. A minor amendment (-01) was issued on December 4, 2014 to the permit to authorize another type of suction cup tag. The permit holder is requesting the permit be amended to authorize the use of dart/barb tags during authorized tagging efforts on Cuvier's beaked whales (Ziphius cavirostris), short-finned pilot whales (Globicephala macrorhynchus), Risso's dolphins (Grampus griseus), Arnoux's beaked whales (Berardius arnuxii), Antarctic minke whales (Balaenoptera bonaerensis) and endangered humpback whales (Megaptera novaeangliae) during vessel surveys. No other changes to the permit are requested.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: June 23, 2015.
Julia Harrison,
Chief, Permits and Conservation Division, Office of Protected Resources, National Marine Fisheries Service.

[FR Doc. 2015-15803 Filed 6-26-15; 8:45 am]

BILLING CODE 3510-22-P